DEPARTMENT OF STATE

Office of the Secretary

[Public Notice 3844]

Extension of the Restriction on the Use of United States Passports for Travel To, In, or Through Libya

Correction

In notice document 01-29156 appearing on page 58546 in the issue of Wednesday, November 21, 2001, make the following correction:

On the same page, in column three, “Dated: December 13, 2001” should read “Dated: November 13, 2001”.

[FR Doc. C1-29156 Filed 11-29-01; 8:45 am]

BILLING CODE 1505-01-D